DEPARTMENT OF THE INTERIOR

Bureau of Land Management

43 CFR Part 3200

[Docket No. BLM-2025-0016; PO #4820000251; Order #02412-014-004-047181.0]

RIN 1004-AF15

Rescission of Regulations Regarding Geothermal Leases

AGENCY: Bureau of Land Management, Interior.

ACTION: Direct final rule; request for comments.

SUMMARY: This direct final rule rescinds a portion of the Bureau of Land Management's (BLM) regulations that address geothermal resource leasing.

DATES: The final rule is effective on September 15, 2025, unless significant adverse comments are received by August 18, 2025. If significant adverse comments are received, notice will be published in the Federal Register before the effective date either withdrawing the rule or issuing a new final rule which responds to significant adverse comments.

ADDRESSES: You may submit comments by one of the following methods:

• Federal eRulemaking Portal: https://www.regulations.gov. In the Search box, enter the Docket Number “BLM-2025-0016” and click the “Search” button. Follow the instructions at this website.

• Mail, Personal, or Messenger Delivery: U.S. Department of the Interior, Director (630), Bureau of Land Management, 1849 C St. NW, Room 5646, Washington, DC 20240, Attention: 1004-AF15.

FOR FURTHER INFORMATION CONTACT: Lorenzo Trimble, Geothermal Program Lead, telephone: 775-861-6724; email: ltrimble@blm.gov. Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0016 on www.regulations.gov.

SUPPLEMENTARY INFORMATION: The Department's regulations implementing the Geothermal Steam Act of 1970, 30 U.S.C. 1001-1028, are contained in 43 CFR parts 3200 and 3280. These regulations manage the use of the public lands and the Federal mineral estate for geothermal resources leasing and development under the Geothermal Steam Act. Upon reviewing these regulations, the Department of the Interior (Department) has determined that certain regulations should be rescinded. Within the part 3200 regulations, §§ 3200.7 and 3200.8 each contain provisions that are outdated or no longer relevant because: (1) the timeframe for deciding whether to convert an existing lease to the 2007 regulations has expired; and (2) there are no longer any pending lease applications that were submitted before enactment of the Energy Policy Act in 2005.

This direct final rule rescinds 43 CFR 3200.7(b) and (c). The content of paragraph (a) in 43 CFR 3200.7 will become the entire remaining section. No changes were made to the content of existing paragraph (a).

This direct final rule also rescinds 43 CFR 3200.8 (b)(2). The remaining paragraph in 3200.8(b)—3200.8 (b)(3)—will be redesignated as 3200.8 (b)(2).

The provisions in 43 CFR 3200.7 (b) and (c) and 43 CFR 3200.8 (b)(2) have become obsolete by their terms. BLM has determined that this reason, independently and alone, justifies rescission of this regulation. The BLM has determined that it is neither efficient nor in the best interests of the public to maintain obsolete regulations that are no longer in use.

The Department is issuing this rule as a direct final rule. Although the Administrative Procedure Act (APA, 5 U.S.C. 551-559) generally requires agencies to engage in notice and comment rulemaking, section 553 of the APA provides an exception when the agency “for good cause finds” that notice and comment are “impracticable, unnecessary, or contrary to the public interest.” Id. section 553(b)(B). The Department has determined that notice and comment are unnecessary because this rule is noncontroversial; of a minor, technical nature; involves little agency discretion; and is unlikely to receive any significant adverse comments. Significant adverse comments are those that oppose the rescission of the rules and raise, alone or in combination, (1) reasons why the rescission of the rule is inappropriate, including challenges to the rescission's underlying premise; or (2) serious unintended consequences of the rescission. A comment recommending an addition to the rule will not be considered significant and adverse unless the comment explains how this direct final rule would be ineffective without the addition.

Procedural Matters

Executive Order (E.O.) 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The Department developed this rule in a manner consistent with these requirements.

Regulatory Flexibility Act

The Regulatory Flexibility Act (RFA, 5 U.S.C. 601 through 612) requires an agency to prepare a regulatory flexibility analysis for all rules unless the agency certifies that the rule will not have a significant economic impact on a substantial number of small entities. The RFA applies only to rules for which an agency is required to first publish a proposed rule. See 5 U.S.C. 603(a) and 604(a). As the Department is not required to publish a notice of proposed rulemaking for this direct final rule, the RFA does not apply.

Congressional Review Act

This rule is not a major rule under the Congressional Review Act, 5 U.S.C. 804(2). Specifically, the direct final rule: (a) will not have an annual effect on the economy of $100 million or more; (b) will not cause a major increase in costs or prices for consumers, individual industries, Federal, State, or local government agencies, or geographic regions; and (c) will not have significant adverse effects on competition, employment, investment, productivity, innovation, or on the ability of United States-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely revises the Federal regulations to remove an obsolete provision that is no longer used. Therefore, a statement containing the information required by the Unfunded Mandates Reform Act (2 U.S.C. 1531 et seq.) is not required.

E.O. 12630—Governmental Actions and Interference With Constitutionally Protected Property Rights

This rule does not result in a taking of private property or otherwise have regulatory takings implications under E.O. 12630. The rule rescinds an obsolete regulatory provision; therefore, the rule will not result in private property being taken for public use without just compensation. A takings implication assessment is therefore not required.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 12988—Civil Justice Reform

This direct final rule complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13175—Consultation and Coordination With Indian Tribal Governments

The Department of the Interior strives to strengthen its government-to-government relationship with Indian tribes through a commitment to consultation with Tribes and recognition of their right to self-governance and Tribal sovereignty. The Department evaluated this direct final rule under E.O. 13175 and the Department's consultation policies and determined that it has no substantial, direct effects on federally recognized Indian tribes and that consultation under the Department's Tribal consultation policies is not required. The rule merely revises the Federal regulations to remove unnecessary regulatory language.

Paperwork Reduction Act

OMB previously approved the information collection activities contained in the existing regulations and assigned OMB Control Number 1004-0132. This rule does not impose any new or materially revised information collection requirements under the Paperwork Reduction Act (44 U.S.C. 3501 et seq.), and a submission to the Office of Management and Budget under the Paperwork Reduction Act is not required.

National Environmental Policy Act

This direct final rule does not constitute a major Federal action significantly affecting the quality of the human environment. A detailed statement under the National Environmental Policy Act (NEPA, 42 U.S.C. 4321 et seq.) is not required because this rule is covered by a categorical exclusion applicable to regulatory functions “that are of an administrative, financial, legal, technical, or procedural nature.” 43 CFR 46.210(i). In addition, the Department has determined that this rule does not involve any of the extraordinary circumstances listed in 43 CFR 46.215 that would require further analysis under NEPA.

E.O. 13211—Actions Concerning Regulations That Significantly Affect Energy Supply, Distribution, or Use

This direct final rule is not a significant energy action as defined in E.O. 13211. Therefore, a Statement of Energy Effects is not required.

List of Subjects in 43 CFR Part 3200

Environmental protection, Geothermal energy, Government contracts, Mineral royalties, Public lands—mineral resources, Reporting and recordkeeping requirements, Surety bonds.

Adam G. Suess,
Acting Assistant Secretary, Land and Minerals Management.

For the reason stated in the preamble, the Bureau of Land Management amends 43 CFR part 3200 as follows:

PART 3200—GEOTHERMAL RESOURCE LEASING

1. The authority citation for part 3200 continues to read as follows:

Authority: 30 U.S.C. 1001-1028; 43 U.S.C. 1701 et seq.; and Pub. L. 109-58.

Subpart 3200—Geothermal Resource Leasing

2. Revise § 3200.7 to read as follows:

§ 3200.7 What regulations apply to geothermal leases issued before August 8, 2005?

(a) Leases issued before August 8, 2005, are subject to this part and 43 CFR part 3280, except that such leases are subject to the BLM regulations in effect on August 8, 2005 (43 CFR parts 3200 and 3280 (2004)), with regard to regulatory provisions relating to royalties, minimum royalties, rentals, primary term and lease extensions, diligence and annual work requirements, and renewals.

(b) The lessee of a lease issued before August 8, 2005, may elect to be subject to all of the regulations in this part and 43 CFR part 3280, without regard to the exceptions in paragraph (a)(1) of this section. Such an election must occur no later than December 1, 2008. Any such election as it pertains to lease terms relating to royalty rates must be made under the royalty rate conversion provisions of subpart 3212 of this part. A lessee must obtain a royalty conversion under subpart 3212 to make an election under this paragraph effective.

3. Revise § 3200.8 to read as follows:

§ 3200.8 What regulations apply to leases issued in response to applications pending on August 8, 2005?

(a) Any leases issued in response to applications that were pending on August 8, 2005, are subject to this part and 43 CFR part 3280, except that such leases are subject to the BLM regulations in effect on August 8, 2005 (43 CFR parts 3200 and 3280 (2004)), with regard to regulatory provisions relating to royalties, minimum royalties, rentals, primary term and lease extensions, diligence and annual work requirements, and renewals.

(b)(1) The lessee of a lease issued pursuant to an application that was pending on August 8, 2005, may elect to be subject to all of the regulations in this part and 43 CFR part 3280, without regard to the exceptions in paragraph (a) of this section.

(2) For leases issued on or after June 1, 2007, the lease applicant must make its election under paragraph (b)(1) of this section and notify BLM before the lease is issued.

[FR Doc. 2025-13394 Filed 7-16-25; 8:45 am]

BILLING CODE 4331-29-P